DEPARTMENT OF HEALTH AND HUMAN SERVICES

Centers for Disease Control and Prevention

CDC Town Hall Meeting on Laboratory Biosafety—Use of Laboratory Instruments

AGENCY: Centers for Disease Control and Prevention (CDC), Department of Health and Human Services (HHS).

ACTION: Notice of meeting.

SUMMARY: The Centers for Disease Control and Prevention (CDC), located within the Department of Health and Human Services (HHS), announces a meeting regarding biosafety and laboratory instrumentation.

DATES: The meeting will be held on Friday, June 24, 2022, from 10 a.m. to 3:30 p.m., EDT.

ADDRESSES: This meeting is open to the public through a virtual format, limited only by the webcast lines available. Registration is not required. Visit the CDC Safe Labs website for the meeting webcast at https://www.cdc.gov/safelabs/biosafety-townhall.html.

FOR FURTHER INFORMATION CONTACT: Nancy E. Cornish M.D., Center for Surveillance, Epidemiology and Laboratory Services, Centers for Disease Control and Prevention, 1600 Clifton Road NE, Mailstop V24-3, Atlanta, Georgia 30329-4018; Phone: (404)498-2720; Email: dlsbiosafety@cdc.gov.

SUPPLEMENTARY INFORMATION:

Purpose: The purpose of this meeting is to provide an overview and discussion on laboratory biosafety when using laboratory instruments to test human and biologic specimens. Meeting topics are listed in the “Matters to be Considered” section of this notice.

Matters to be Considered: The agenda will include presentations and discussions on four topic areas: (1) instrument design and incorporating biosafety; (2) perceived risks to laboratory personnel and impact on testing; (3) independent assessment of risks and instrument design; and (4) a discussion of potential areas of collaboration to address issues discussed during the meeting. There will be prepared presentations, discussions among presenters and panelists, and a period for questions and public comments. Agenda items are subject to change as priorities dictate.

Background: CDC's Division of Laboratory Systems is hosting the town hall meeting in collaboration with clinical and public health laboratory partners, and instrument manufacturers to address clinical laboratory biosafety. The recent publication Clinical Laboratory Biosafety Gaps: Lessons Learned from Past Outbreaks Reveal a Path to a Safer Future (Cornish NE. et. al. Clinical Laboratory Biosafety Gaps: Lessons Learned from Past Outbreaks Reveal a Path to a Safer Future. Clin Microbiol Rev. July 2021, Vol. 34/3 e00126-18) discussed critical gaps in clinical laboratory biosafety, including issues related to the use and disinfection of laboratory instruments. The discussion and feedback generated during the meeting will assist in evaluating current biosafety guidance and identify opportunities for improvement in clinical laboratory biosafety and use of laboratory instrumentation. This meeting is a listening session. Participants may provide individual advice or perspectives. CDC is not seeking consensus advice or recommendations from participants.

Dated: June 14, 2022.
Angela K. Oliver,
Executive Secretary, Centers for Disease Control and Prevention.

[FR Doc. 2022-13123 Filed 6-16-22; 8:45 am]

BILLING CODE 4163-18-P